DEPARTMENT OF THE INTERIOR

Bureau of Indian Affairs

[212A2100DD/AAKC001030/A0A501010.999900 253G]

Not Invisible Act Joint Commission on Reducing Violent Crime Against Indians

AGENCY: Office of the Assistant Secretary—Indian Affairs, Interior.

ACTION: Notice of call for nominations and request for comments for non-Federal Commission members.

SUMMARY: This notice requests public nominations for the U.S. Department of the Interior (DOI)'s Joint Commission on Reducing Violent Crime Against Indians (Commission) as outlined in Section 4 of the Not Invisible Act of 2019. The Commission will develop recommendations for the Secretary of the Interior (Secretary) and the Attorney General on actions the Federal Government can take to increase intergovernmental coordination to identify and combat violent crime on Indian lands and against Indians. The DOI is soliciting comments and nominations for qualified individuals to serve as non-Federal Commission members.

DATES: Comments and nominations for non-Federal Commission members must be submitted no later than September 20, 2021.

ADDRESSES: Send written comments and nominations to Regina Gilbert, by any of the following methods:

• Preferred method Email to: consultation@bia.gov;

• Mail, hand-carry or use an overnight courier service to: Attn. Jason O'Neal, Director, Office of Justice Services U.S. Department of the Interior, Bureau of Indian Affairs, 1849 C Street NW, MS-3662-MIB, Washington, DC 20240.

Information is also available at www.bia.gov/as-ia/nia.

FOR FURTHER INFORMATION CONTACT: Please email inquiries to Heidi_Todacheene@ios.doi.gov; and please add the following language in the subject line: “Inquiry re NIAC fr [add org/tribe/name here]”.

SUPPLEMENTARY INFORMATION:

I. Background

Congress enacted the Not Invisible Act of 2019 (Act), Public Law 116-166, 134 Stat. 766 (2020), to increase intergovernmental coordination to identify and combat violent crime within Indian lands and against Indians. Section 4 of the Act requires that the Secretary of the Interior (Secretary), in coordination with the United States Attorney General, establish and appoint commission members (both Federal and non-Federal) to a Joint Commission on Reducing Violent Crime Against Indians (Commission) to develop recommendations on actions the Federal Government can take to identify, coordinate, and combat violent crime on Indian lands and against Indians.

There are many Federal programs tasked with addressing violent crime. However, the agencies that operate these programs do not have an overarching strategy to properly deploy these resources in Indian Country and urban Indian communities. Program implementation often takes place without considering the unique needs of Native communities in this context. The Act addresses these concerns by providing an opportunity for the Federal Government to improve its efforts to combat the growing crisis of murder, trafficking, and the disappearance of Indigenous men and women.

II. Work of the Commission

Section 4(c)(2)(A) of the Act requires the Commission to develop recommendations on actions the Federal Government can take to help combat violent crime and within Indian lands and of Indians, including recommendations for:

(i) Identifying, reporting, and responding to instances of missing persons, murder, and human trafficking on Indian lands and of Indians;

(ii) legislative and administrative changes necessary to use programs, properties, or other resources funded or operated by the DOI and Department of Justice to combat the crisis of missing or murdered Indians and human trafficking on Indian lands and of Indians;

(iii) tracking and reporting data on instances of missing persons, murder, and human trafficking on Indian lands and of Indians;

(iv) addressing staff shortages and open positions within relevant law enforcement agencies, including issues related to the hiring and retention of law enforcement officers;

(v) coordinating Tribal, State, and Federal resources to increase prosecution of murder and human trafficking offenses on Indian lands and of Indians; and

(vi) increasing information sharing with Tribal governments on violent crime investigations and prosecutions in Indian lands that were terminated or declined.

The Act requires the Commission to submit all recommendations to the Secretary of the Interior, the Attorney General, the Senate Committees on the Judiciary and on Indian Affairs, the House Committees on the Judiciary and on Natural Resources and make their recommendations publicly available. For more information see https://www.bia.gov/as-ia/nia.

III. Commission Membership, Responsibilities and Criteria

A. Commission Membership

In accordance with the Act, the Commission is exempt from the Federal Advisory Committee Act (FACA) requirements.

The Secretary will coordinate with the Attorney General to establish the Commission and appoint members. The Commission must be composed of a minimum of 27 qualified Federal and non-Federal members who represent diverse experiences, backgrounds, geography, and Tribes of diverse sizes who are able to provide balanced points of view on the duties of the Commission. The Secretary is seeking non-Federal nominations for representatives to serve on the Commission who represent one or more of the interests in Section C and who fulfill the additional skills and expertise listed in the same section.

In making membership decisions, the Secretary will consider whether the interest represented by a nominee will be affected significantly by the final products of the Commission, which may include report(s) and/or proposed recommendations; whether that interest is already adequately represented by other nominees; and whether the potential addition would adequately represent that interest.

Federally registered lobbyists are ineligible to serve on all FACA and non-FACA boards, committees, or councils in an individual capacity. The term “individual capacity” refers to individuals who are appointed to exercise their own individual best judgment on behalf of the government, such as when they are designated Special Government Employees, rather than being appointed to represent a particular interest.

B. Commission Member Responsibilities

The Commission is expected to meet approximately 3-5 times and each meeting is expected to last multiple hours for a consecutive 2-3 days each. The initial meeting may be held by teleconference and/or web conference; later meetings may be held either virtually or in person, or a mixture of both. Between meetings, Commission members are expected to participate in work group or subcommittee work via conference call, email and/or virtually. The Commission's work is expected to occur over the course of 18 months as identified in the Act. The Commission may hold hearings, meet and act at times and places, take testimony, and receive evidence as the Commission considers to be advisable to carry out its duties.

Because of the scope and complexity of the tasks at hand, Commission members must be able to invest considerable time and effort in the process. Commission members must be able to attend all Commission meetings, hearings, work on Commission work groups, consult with their constituencies between Commission meetings, and negotiate in good faith toward a consensus on issues before the Commission. Because of the complexity of the issues under consideration, as well as the need for continuity, the Secretary reserves the right to replace any member who is unable to participate in the Commission's meetings, hearings, and work group meetings with an alternate member.

The DOI commits to pay the reasonable travel and per diem expenses of Commission members, if appropriate, to attend in-person meetings and hearings.

C. Membership Criteria

Prospective members need to have a strong capacity for teamwork, tracking relevant Federal Government programs and policy making procedures, and coordinating with and acting on behalf of the entity they represent. Prospective members should demonstrate relevant expertise, and a commitment and motivation to address the issues related to missing, murdered and human trafficking of Indians, especially at the local level. Because of the significant time commitment for this Commission, nominees should not be a current member of an existing Commission, Task Force, or Advisory Group on a similar or related topic.

Non-Federal members of the Commission are comprised of the categories below. Specific criteria for each category are provided.

Category | Criteria
Tribal law enforcement
| • Work for a Tribe that has experience in missing, murdered or human trafficking with or without a Tribal resolution.
| • Demonstrated understanding of the procedural requirements to investigate missing and murder [cases] e.g., how and when to interview, and report writing.
| • Demonstrated experience in gathering and preserving evidence in missing persons cases.
| • Demonstrated experience working with FBI or local law enforcement on missing persons cases.
State and local law enforcement | • In close proximity to Indian lands.
| • A letter of recommendation from a local Indian Tribe.
| • Be from State, county, or local law enforcement with cross-deputization experience working with local Tribe(s).
| • Nominees in this category should represent a mix of people from P.L. 280 states and from non-P.L. 280 states.
Tribal judge | • Experience in cases related to missing persons, murder, or trafficking.
| • Experience working with culturally relevant wellness and/or family courts and/or victim services.
| • Demonstrate thought processes that explore the implications of their decisions on the families and/or reflect the cultural relevance and complexity of the issues before ruling.
Not fewer than 3 Indian Tribes including 1 Indian Tribe in Alaska | • Diverse geographic locations. Including urban and rural representation (including Alaska).
| • Selected from nominations submitted by the Indian Tribe.
| • Demonstrated substantive expertise in the issues.
| • Nominees in this category should be a mix of elected tribal leadership, council members, social services, victim services, wellness and/or family courts.
Not fewer than 2 health care and mental health practitioners with experience working with Indian survivors of trafficking and sexual assault. | • Letter of recommendation from a local Tribal chair or Tribal law enforcement officer.
| • Demonstrate an understanding of the importance of cultural relevancy.
| • Demonstrate an understanding of the Indian Health Service, or clinical health services on tribal lands.
Not fewer than 3 national, regional, or urban Indian organizations focused on violence against women and children on Indian lands or against Indians | • National, regional, or urban organization.
| • Have established track record with a history of funding e.g., existed for 10 years or longer.
At least 2 Indian survivors of human trafficking | • A letter from an individual or entity who can validate they are survivors.
| • A letter from a federally recognized Tribe is a plus but not required.
| • Nominees in this category should be geographically diverse including urban/rural diversity.
At least 2 family members of missing Indian people | • A letter from an individual or entity who can validate they have a missing family member.
| • A letter from a federally recognized Tribe is a plus but not required.
| • Nominees in this category should be geographically diverse including urban/rural diversity.
At least 2 family members of murdered Indian people | • A letter from an individual or entity who can validate they have a murdered family member.
| • A letter from a federally recognized Tribe is a plus but not required.
| • Nominees in this category should be geographically diverse including urban/rural diversity.

IV. Call for Non-Federal Commission Member Nominations

Under Section 4, the Act requires that the Commission be comprised of only Federal and non-Federal representatives. Specifically, nominations for non-Federal primary members who can fulfill the obligations of membership that are listed above are requested. Qualified alternate members will be identified from this pool of nominees.

The Secretary, in coordination with the Attorney General, will consider non-Federal employee nominations for representatives only if they are nominated through the process identified in this notice. The Secretary will not consider any nominations that are received in any other manner. The Secretary will not consider nominations for Federal representatives; only the Secretary, in coordination with the Attorney General, may appoint Federal employees to the Commission.

Nominations must include the following information about each nominee:

1. The nominee's name, contact information, geographic location, and Tribal affiliation.

2. A resume that describes the nominees' qualifications for specific membership category(ies). Please refer to the membership criteria stated in this notice.

3. A personal statement of the reasons why the nominee wants to serve on the Commission including examples of work or professional experience at the local, Tribal or urban community level, and/or regionally, nationally.

4. A statement committing to the time to contribute meaningfully to Commission deliberations including work groups.

5. Any additional comments, including culturally relevant skills and personal experience, that could help contribute to the Commission's deliberations.

6. Where specified in the membership criteria, one or more letters of recommendation.

To be considered, nominations must be received by the close of business on the date listed in the DATES section, at the location indicated in the ADDRESSES section.

V. Comments

You may submit your comments by any one of the methods listed in the ADDRESSES section of this notice. Before including your address, phone number, email address, or other personal identifying information in your comment, you should be aware that your entire comment—including your personal identifying information—may be made publicly available at any time. While you can ask the Department in your comment to withhold your personal identifying information from public view, the Department cannot guarantee that we will be able to do so.

Bryan Newland,
Principal Deputy Assistant Secretary—Indian Affairs.

[FR Doc. 2021-16699 Filed 8-4-21; 8:45 am]

BILLING CODE 4337-15-P